SMALL BUSINESS ADMINISTRATION

[Disaster Declaration #16934 and #16935; KENTUCKY Disaster Number KY-00085]

Presidential Declaration Amendment of a Major Disaster for Public Assistance Only for the Commonwealth of KENTUCKY

AGENCY: U.S. Small Business Administration.

ACTION: Amendment 1.

SUMMARY: This is an amendment of the Presidential declaration of a major disaster for Public Assistance Only for the Commonwealth of KENTUCKY (FEMA-4595-DR), dated 04/23/2021. Incident: Severe Storms, Flooding, Landslides, and Mudslides. Incident Period: 02/27/2021 through 03/14/2021.

DATES: Issued on 05/05/2021.

Physical Loan Application Deadline Date: 06/22/2021.

Economic Injury (EIDL) Loan Application Deadline Date: 01/24/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the Commonwealth of KENTUCKY, dated 04/23/2021, is hereby amended to include the following areas as adversely affected by the disaster.

Primary Counties:

Bell, Calloway, Clark, Clay, Edmonson, Estill, Graves, Harlan, Leslie, Letcher, Menifee, Owsley, Perry, Pulaski, Union, Whitley.

All other information in the original declaration remains unchanged.

(Catalog of Federal Domestic Assistance Number 59008)

James Rivera,
Associate Administrator for Disaster Assistance.

[FR Doc. 2021-09949 Filed 5-10-21; 8:45 am]

BILLING CODE 8026-03-P